DEPARTMENT OF HEALTH AND HUMAN SERVICES

Centers for Medicare & Medicaid Services

[CMS-3117-N]

Medicare Program; Meeting of the Medicare Coverage Advisory Committee—September 9, 2003

AGENCY: Centers for Medicare & Medicaid Services (CMS), HHS.

ACTION: Notice.

SUMMARY: This notice announces a public meeting of the Medicare Coverage Advisory Committee (the Committee). The Committee provides advice and recommendations to us about clinical issues. The Committee advises us on whether adequate evidence exists to determine whether specific medical items and services are reasonable and necessary under the Medicare statute. The Committee will discuss and make recommendations concerning the quality of the evidence and related issues for the use of ocular photodynamic therapy (OPT) with verteporfin in routine clinical use in the population of Medicare beneficiaries who have age-related macular degeneration (AMD) and occult with no classic choroidal neovascularization (CNV). Notice of this action is given under the Federal Advisory Committee Act (5 U.S.C. App. 2, section 10(a)(1) and (a)(2)).

DATES: The public meeting announced will be held on Tuesday, September 9, 2003 from 7:30 a.m. until 3:30 p.m., e.d.t.

Deadline for Presentations and Comments: Interested persons may present data, information, or views orally or in writing, on issues pending before the Committee. Written presentations and comments must be submitted to the Executive Secretary, Michelle Atkinson, by telephone at 410-786-2881 or by e-mail at matkinson@cms.hhs.gov by August 21, 2003, 5 p.m., e.d.t.

Special Accommodations: Persons attending the meeting who are hearing or visually impaired, or have a condition that requires special assistance or accommodations, are asked to notify the Executive Secretary by August 21, 2003 (see FOR FURTHER INFORMATION CONTACT).

ADDRESSES: The meeting will be held at the Holiday Inn Inner Harbor, Room: Harbor 1, 12th floor, 301 West Lombard Street, Baltimore, MD 21201. Refer to Medicare Coverage Advisory Committee meeting if making reservations through the Holiday Inn Inner Harbor.

Presentations and Comments: Submit formal presentations and written comments to Michelle Atkinson by telephone at 410-786-2881, by e-mail at matkinson@cms.hhs.gov, or by mail to the Executive Secretary, Office of Clinical Standards and Quality, Centers for Medicare & Medicaid Services, 7500 Security Boulevard, Mail Stop C1-09-06, Baltimore, MD 21244.

Web site: You may access up-to-date information on this meeting at http://www.cms.gov/coverage.

Hotline: You may access up-to-date information on this meeting on the CMS Advisory Committee Information Hotline, 1-877-449-5659 (toll free), or in the Baltimore area, (410) 786-9379.

FOR FURTHER INFORMATION CONTACT: Michelle Atkinson, Executive Secretary, by telephone at 410-786-2881, or by email at matkinson@cms.hhs.gov

SUPPLEMENTARY INFORMATION: On December 14, 1998, we published a notice in the Federal Register (63 FR 68780) to describe the Medicare Coverage Advisory Committee (the Committee), which provides advice and recommendations to us about clinical issues. This notice announces the following public meeting of the Committee.

Meeting Topic: The Committee will discuss the evidence, hear presentations and public comment, and make recommendations regarding the use of ocular photodynamic therapy (OPT) with verteporfin in routine clinical use in the population of Medicare beneficiaries who have age-related macular degeneration (AMD) and occult with no classic choroidal neovascularization (CNV). Background information about this topic, including panel materials, is available on the Internet at http://www.cms.gov/coverage.

Procedure and Agenda: This meeting is open to the public. The Committee will hear oral presentations from the public. The Committee may limit the number and duration of oral presentations to the time available. If you wish to make formal presentations, you must notify the Executive Secretary named in the FOR FURTHER INFORMATION CONTACT section, and submit the following by August 21, 2003, 5 p.m., e.d.t.: A brief statement of the general nature of the evidence or arguments you wish to present, and the names and addresses of proposed participants. A written copy of your presentation must be provided to each Panel member before offering your public comments. We will request that you declare at the meeting whether or not you have any financial involvement with manufacturers of any items or services being discussed (or with their competitors).

After the public and the CMS presentations, the Committee will deliberate openly on the topic. Interested persons may observe the deliberations, but the Committee will not hear further comments during this time except at the request of the chairperson. The Committee will also allow an unscheduled open public session for any attendee to address issues specific to the topic. At the conclusion of the day, the members will vote and the Committee will make its recommendation.

Authority: 5 U.S.C. App. 2, section 10(a)(1) and (a)(2).

(Catalog of Federal Domestic Assistance Program No. 93.774, Medicare—Supplementary Medical Insurance Program)

Dated: July 16, 2003.
Steve Phurrough,
Acting Director, Coverage and Analysis Group, Office of Clinical Standards and Quality, Chief Medical Officer, Centers for Medicare & Medicaid Services.

[FR Doc. 03-18993 Filed 7-24-03; 8:45 am]

BILLING CODE 4120-01-P